DEPARTMENT OF THE INTERIOR

Bureau of Land Management

[OR-027-1610-PG; G-04-0036]

Notice of Public Meetings, Steens Mountain Advisory Council

AGENCY: Department of the Interior, Bureau of Land Management (BLM), Burns District Office.

ACTION: Notice of public meetings for the Steens Mountain Advisory Council.

SUMMARY: In accordance with the Steens Mountain Cooperative Management and Protection Act of 2000 (Steens Act), the Federal Land Policy and Management Act (FLPMA), and the Federal Advisory Committee Act of 1972 (FACA), the U.S. Department of the Interior, Bureau of Land Management (BLM), Steens Mountain Advisory Council (SMAC) will meet as indicated below:

DATES: The SMAC will meet at the BLM, Burns District Office, 28910 Highway 20 West, Hines, Oregon 97738, on February 17, 18 and 19; April 12 and 13, 2004; June 14 and 15, 2004; August 9 and 10, 2004; and November 15 and 16, 2004. A meeting in Bend, Oregon, (location to be determined) will be held on May 10 and 11, 2004 and one in Frenchglen, Oregon, on September 13 and 14, 2004. All meeting sessions will begin at 8 a.m., local time, and will end at approximately 4:30 p.m., local time.

SUPPLEMENTARY INFORMATION: The SMAC was appointed by the Secretary of Interior on August 14, 2001 pursuant to the Steens Act and re-chartered in August 2003. The SMAC's purpose is to provide representative counsel and advice to the BLM regarding (1) new and unique approaches to management of the land within the bounds of the Steens Mountain Cooperative Management and Protection Area (CMPA), (2) cooperative programs and incentives for landscape management that meet human needs, maintain and improve the ecological and economic integrity of the area and (3) preparation and implementation of a management plan for the CMPA.

Topics to be discussed by the SMAC at these meetings include categories such as transportation, recreation/public use, wildlife, special designated areas, partnerships/programs, cultural resources, watersheds, projects, education, volunteer-based information, adaptive management, planning process (Andrews Management Unit/Steens Mountain Cooperative Management and Protection Area Resource Management Plan and Environmental Impact Statement), science committee/consultants, socioeconomics, and other matters that may reasonably come before the SMAC.

All meetings are open to the public in their entirety. Information to be distributed to the SMAC is requested at least 10 days prior to the start of each SMAC meeting. Public comment is generally scheduled for 11 a.m. to 11:30 a.m., local time, both days of each meeting session. The amount of time scheduled for public presentations and meeting times may be extended when the authorized representative considers it necessary to accommodate all who seek to be heard regarding matters on the agenda.

FOR FURTHER INFORMATION CONTACT: Additional information concerning the SMAC may be obtained from Rhonda Karges, Management Support Specialist, Burns District Office, 28910 Highway 20 West, Hines, Oregon 97738, (541) 573-4400 or Rhonda_Karges@or.blm.gov or from the following Web site: http://www.or.blm.gov/Steens.

Dated: November 24, 2003.
Karla Bird,
Andrews Resource Area Field Manager.

[FR Doc. 03-29896 Filed 12-1-03; 8:45 am]

BILLING CODE 4310-33-P